DEPARTMENT OF DEFENSE

Office of the Secretary

[Transmittal No. 24-0W]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0W.

Dated: December 9, 2025.
Stephanie J. Bost,
Alternate OSD Federal Register Liaison Officer, Department of Defense.

BILLING CODE 6001-FR-P

BILLING CODE 6001-FR-C

Transmittal No. 24-0W

REPORT OF ENHANCEMENT OR UPGRADE OF SENSITIVITY OF TECHNOLOGY OR CAPABILITY (SEC. 36(B)(5)(C), AECA)

(i) Prospective Purchaser: Government of Denmark

(ii) Sec. 36(b)(1), AECA Transmittal No.: 19-44

Date: August 27, 2019

Implementing Agency: Navy

(iii) Description: On August 27, 2019, Congress was notified by congressional certification transmittal number 19-44 of the possible sale, under Section 36(b)(1) of the AECA, of up to nine (9) AN/AQS-22 Airborne Low Frequency Sonar (ALFS) Systems. Also included were six hundred (600) AN/SSQ-36/53/62 Sonobuoys; spare and repair parts; support and test equipment; communication equipment; publications and technical documentation; personnel training and training equipment; United States (U.S.) Government and contractor engineering, technical, and logistics support services; and other related elements of logistical and program support. The total estimated value was $200 million. Major Defense Equipment (MDE) constituted $100 million of this total.

On November 20, 2019, Congress was notified by congressional certification transmittal number 1J-19, under Section 36(b)(5)(A) of the Arms Export Control Act, of the addition of the following MDE: 1) twenty (20) MK 54 All Up Round Lightweight Torpedoes; and 2) two (2) MK 54 Exercise Torpedoes (EXTORPS) (MK 54 Kit Procurement Required). Also included were MK 54 LWT Spares; torpedo containers; Recoverable Exercise Torpedoes (REXTORP) with containers; Fleet Exercise Section (FES) and fuel tanks; air launch accessories for fixed wing; torpedo spare parts, training, publications, support, and test equipment; U.S. Government and contractor engineering, technical, and logistics support services; and other related elements of logistics and program support. The addition of these items resulted in a net increase in MDE cost of $19 million, resulting in a revised MDE cost of $119 million. The total estimated case value increased to $240 million.

This transmittal notifies the inclusion of the following additional MDE items: twelve (12) MK 54 MOD 0 Lightweight Torpedo all up rounds. The following non-MDE items will also be included: torpedo containers; Recoverable Exercise Torpedoes (REXTORP); Fleet Exercise Sections (FES) and fuel tanks; U.S. Government and contractor engineering, technical, and logistics support services; and other related elements of logistics and program support. The estimated total value of the new MDE items is $40 million, resulting in a revised estimated MDE value of $159 million. The estimated total value of the new non-MDE items is $15 million, resulting in a revised non-MDE value of $136 million. The estimated total case value will increase by $55 million to $295 million.

(iv) Significance: This notification is being provided because the additional items were not enumerated in the original notification. The proposed sale will improve Denmark's capability to meet current and future threats.

(v) Justification: This proposed sale will support the foreign policy goals and national security objectives of the U.S. by improving the security of a NATO Ally that is a force for political stability and economic progress in Europe.

(vi) Sensitivity of Technology:

The MK 54 Lightweight Torpedo is a conventional torpedo that can be launched from surface ships, rotary and fixed wing aircrafts. The MK 54 LWT is an upgrade to the MK 46 Torpedo that entails replacement of the torpedo's sonar and guidance and control systems with modem technology. The new guidance and control system uses a mixture of commercial-off-the-shelf and custom-built electronics. The warhead, fuel tank, and propulsion system from the MK 46 torpedo are re-used in the MK 54 torpedo configuration with minor modifications.

The highest level of classification of defense articles, components, and services included in this potential sale is SECRET.

(vii) Date Report Delivered to Congress: October 21, 2024

[FR Doc. 2025-22601 Filed 12-11-25; 8:45 am]

BILLING CODE 6001-FR-P